DEPARTMENT OF HEALTH AND HUMAN SERVICES

Centers for Medicare & Medicaid Services

[Document Identifier: CMS-10164, CMS-855, CMS-R-257, and CMS-10064]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Electronic Data Interchange (EDI) Enrollment Form and Medicare EDI Registration Form; Form No.: CMS-10164 (OMB # 0938-NEW); Use: Federal law requires that CMS take precautions to minimize the security risk to Federal information systems. Accordingly, CMS is requiring that trading partners who wish to conduct the Electronic Data Interchange (EDI) transactions provide certain assurances as a condition of receiving access to the Medicare system for the purpose of conducting EDI exchanges. Health care providers, clearinghouses, and health plans that wish to access the Medicare system are required to complete this form. The information will be used to assure that those entities that access the Medicare system are aware of applicable provisions and penalties; Frequency: Recordkeeping and reporting—other (one-time only); Affected Public: Business or other for-profit, not-for-profit institutions; Number of Respondents: 1,220,000; Total Annual Responses: 1,220,000; Total Annual Hours: 400,000.

2. Type of Information Collection Request: New collection; Title of Information Collection: Medicare Carrier Provider/Supplier Enrollment Application; Form No.: CMS-855 (OMB # 0938-0685); Use: This application is currently required of all health care providers/suppliers who wish to enroll in the Medicare program. It is submitted at the time the applicant first requests a Medicare billing number. The application is used by Medicare contractors to collect data to assure the applicant has the necessary professional and/or business credentials to provide the health care services for which they intend to bill Medicare, including information that allows the Medicare contractor to correctly price, process and pay the applicant's claims. It also gathers information that allows Medicare contractors to ensure that the provider/supplier is not sanctioned from the Medicare program, or debarred, suspended or excluded from any other Federal agency or program; Frequency: Reporting—other (upon initial enrollment and revalidation); Affected Public: Business or other for-profit, individuals or households, not-for-profit institutions; Number of Respondents: 604,000; Total Annual Responses: 604,000; Total Annual Hours: 1,227,000.

3. Type of Information Collection Request: Extension of a currently approved collection; Title of Information Collection: Medicare Advantage Disenrollment Form to original Medicare; Form No.: CMS-R-257 (OMB # 0938-0741); Use: Section 4001 of the Balanced Budget Act of 1997 amended the Social Security Act to add section 1851, including 1851(c)(1) which required the establishment of a procedure and form to make and change Medicare Advantage elections, which include disenrollment. The disenrollment form provides beneficiaries an option to submit a disenrollment to a neutral third party, process the disenrollment action as a change of election and to elicit the reasons for disenrollment in order to discern and report disenrollment rates; Frequency: On occasion and other (one-time only); Affected Public: Individuals or households, business or other for-profit, not-for-profit institutions, and Federal government; Number of Respondents: 50,000; Total Annual Responses: 50,000; Total Annual Hours: 3,300.

4. Type of Information Collection Request: Extension of a currently approved collection; Title of Information Collection: Minimum Data Set (MDS) for Swing Bed Hospitals and Supporting Regulations in 42 CFR 483.20 and 413.337; Form No.: CMS-10064 (OMB # 0938-0872); Use: As required under section 1888 (e)(7) of the Omnibus Reconciliation Act of 1987, swing bed hospitals must be reimbursed under the skilled nursing facility prospective payment system. CMS uses the MDS data to reimburse swing bed hospitals for SNF-level care furnished to Medicare beneficiaries. The MDS3.0 is currently being developed with plans for field testing to begin in 2006 with the expectation of completion in 2007. At that time, CMS will analyze the data derived from the study, including the implementation of the new version of the MDS for swing bed hospitals. Since we do not have the MDS3.0 version available, we are requesting an extension for the current SB-MDS.; Frequency: Reporting—other (days 5, 14, 30, 60, and 90 of stay); Affected Public: Not-for-profit institutions, and State, local, and tribal governments; Number of Respondents: 820; Total Annual Responses: 92,789; Total Annual Hours: 51,314.

To obtain copies of the supporting statement and any related forms for the proposed paperwork collections referenced above, access CMS' Web site address at http://www.cms.hhs.gov/regulations/pra/, or e-mail your request, including your address, phone number, OMB number, and CMS document identifier, to Paperwork@cms.hhs.gov, or call the Reports Clearance Office on (410) 786-1326.

Written comments and recommendations for the proposed information collections must be mailed within 60 days of this notice to the address below: CMS, Office of Strategic Operations and Regulatory Affairs, Division of Regulations Development, Attention: William N. Parham, III, PRA Analyst, Room C4-26-05, 7500 Security Boulevard, Baltimore, Maryland 21244-1850.

Dated: June 30, 2005.
Michelle Shortt,
Acting Director, Regulations Development Group, Office of Strategic Operations and Regulatory Affairs.

[FR Doc. 05-13413 Filed 7-7-05; 8:45 am]

BILLING CODE 4120-01-P